DEPARTMENT OF THE TREASURY

Internal Revenue Service

Open Meeting of the Area 2 Taxpayer Advocacy Panel (Including the States of Delaware, North Carolina, South Carolina, New Jersey, Maryland, Pennsylvania, Virginia and the District of Columbia)

AGENCY: Internal Revenue Service (IRS), Treasury.

ACTION: Notice.

SUMMARY: An open meeting of the Area 2 Taxpayer Advocacy Panel will be conducted in Washington, DC. The Taxpayer Advocacy Panel is soliciting public comments, ideas, and suggestions on improving customer service at the Internal Revenue Service.

DATES: The meeting will be held Friday, June 11, 2004, and Saturday, June 12, 2004.

FOR FURTHER INFORMATION CONTACT: Inez E. De Jesus at 1-888-912-1227 (toll-free), or 954-423-7977 (non toll-free).

SUPPLEMENTARY INFORMATION: Notice is hereby given pursuant to section 10 (a) (2) of the Federal Advisory Committee Act, 5 U.S.C. App. (1988) that an open meeting of the Area 2 Taxpayer Advocacy Panel will be held Friday, June 11, 2004 from 8 a.m. to 12 p.m. and from 1 p.m. to 5 p.m. EDT and Saturday, June 12, 2004 from 8 a.m. to 12 p.m. EDT in Washington, DC at One Washington Circle Hotel, One Washington Circle NW, Washington, DC 20037. For information or to confirm attendance, notification of intent to attend the meeting must be made with Inez De Jesus. Ms. De Jesus may be reached at 1-888-912-1227 or 954-423-7977, or write Inez E. De Jesus, TAP Office, 1000 South Pine Island Rd., Suite 340, Plantation, FL 33324, or post comments to the Web site: http://www.improveirs.org.

The agenda will include the following: Various IRS issues.

Dated: May 10, 2004.
Bernard Coston,
Director, Taxpayer Advocacy Panel.

[FR Doc. 04-11020 Filed 5-13-04; 8:45 am]

BILLING CODE 4830-01-P